DEPARTMENT OF HEALTH AND HUMAN SERVICES

National Institutes of Health

Center for Scientific Review; Amended Notice of Meeting

Notice is hereby given of a change in the meeting of the Maximizing Investigators' Research Award—E Study Section, March 05, 2024, 8 a.m. to March 6, 2024, 6 p.m., Center for Scientific Review, RKL2, 6701 Rockledge Dr, Bethesda, MD, 20817 which was published in the Federal Register on February 06, 2024, 89 FR 8218, Doc 2024-02265.

This meeting is being amended to change the meeting start time from 8 a.m. to 9 a.m. The meeting is closed to the public.

Dated: February 6, 2024.
Lauren A. Fleck,
Program Analyst, Office of Federal Advisory Committee Policy.

[FR Doc. 2024-02775 Filed 2-9-24; 8:45 am]

BILLING CODE 4140-01-P